DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Omaha's Henry Doorly Zoo, Omaha, NE PRT-031707

The applicant requests a permit to import one male captive born Black-footed cat (Felis nigripes) from the Johannesburg Zoo, Parkview, Republic of South Africa, for the purpose of enhancement of the survival of the species through captive propagation.

Applicant: University of California—Davis, Davis, CA, PRT-031804

The applicant requests a permit to import serum samples of Oriental white stork (Ciconia ciconia boyciana), red-crowned crane (Grus japonensis) and white-naped crane (Grus vipio) from Japan for the purpose of enhancement of the survival of the species through scientific research.

Applicant: Mark B. Misner, Germantown, TN, PRT-031759

The applicant requests a permit to import the sport-hunted trophy of one male bontebok (Damaliscus pygargus dorcas) culled from a captive herd maintained under the management program of the Republic of South Africa, for the purpose of enhancement of the survival of the species.

Applicant: Columbus Zoo, Powell, OH, PRT-028352

The applicant requests a permit to import two female Pygmy chimpanzee (Pan paniscus) for the purpose increasing the genetic diversity in the global population.

Applicant: National Zoological Park, Washington, DC, PRT-007870

The applicant requests a permit to import one male and one female captive-born giant pandas (Ailuropoda melanoleuca) from Wolong, China for the purpose of scientific research and enhancement of the survival and propagation of the species.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: August 11, 2000.
Charlie Chandler,
Chief, Branch of Permits, Office of Management Authority.

[FR Doc. 00-20975 Filed 8-16-00; 8:45 am]

BILLING CODE 4310-55-P